DEPARTMENT OF LABOR

Employment and Training Administration

[TA-W-81,253]

Sears Holdings Management Corporation, A Division Of Sears Holdings Corporation, Hoffman Estates, Illinois; Notice of Negative Determination on Reconsideration

On August 3, 2012, the Department of Labor issued an Affirmative Determination Regarding Application for Reconsideration for the workers and former workers of Sears Holdings Management Corporation, Hoffman Estates, Illinois (subject firm). The Department's Notice of determination was published in the Federal Register on August 14, 2012 (77 FR 48550).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

During the initial investigation, the Department received information that the petitioners worked in different units of the subject firm: one petitioner worked in the marketing unit, another petitioner worked in the analytics segment of the information and technology unit, and the third petitioner worked in the space management segment of the supply chain unit. The Department also received information from the subject firm that the services supplied by each of the petitioners did not shift to a foreign country as alleged in the petition.

In the request for reconsideration, one of the initial petitioners stated that the worker group was incorrect in the initial investigation (“My position at Sears had nothing to do with Analytics or space Management. I worked in Marketing”), that the correct worker group consist of workers supplying “Accounting, Marketing, and inventory services” and that worker separations was due to Sear's shift the supply of services to a foreign country (“The IMPACT program supported by (Sears Holding) India will be taking over”).

During the reconsideration investigation, the Department reviewed the petition; information supplied by the petitioners; information supplied by Sears' representative during the initial investigation; and information supplied in the request for reconsideration. The Department also requested that the subject firm confirm previously-submitted information and address the allegations in the request for reconsideration.

The subject firm clarified that one petitioner supplied print marketing management services, another petitioner supplied project coordinator analytics services, and the third petitioner supplied merchandise planning analysis services. The subject firm also confirmed that the services previously supplied by the petitioners were not being performed by Sears Holding India and that services supplied by Sears Holding India were not increasing while services decreased at Hoffman Estates, Illinois. The subject firm also provided information that the services supplied by the petitioning workers remain at Hoffman Estates, Illinois.

While there is a certification applicable to TA-W-73,244, each petition is determined based on facts specific to the petition. Therefore, facts relevant to one petition cannot be the basis for certification of another petition.

Conclusion

After careful review, I determine that the requirements of Section 222 of the Act, 19 U.S.C. 2272, have not been met and, therefore, deny the petition for group eligibility of Workers of Sears Holdings Management Corporation, Hoffman Estates, Illinois, to apply for adjustment assistance, in accordance with Section 223 of the Act, 19 U.S.C. 2273.

Signed in Washington, DC, on this 8th day of May, 2013.
Del Min Amy Chen,
Certifying Officer, Office of Trade Adjustment Assistance.

[FR Doc. 2013-12386 Filed 5-23-13; 8:45 am]

BILLING CODE 4510-FN-P